ENVIRONMENTAL PROTECTION AGENCY

[EPA-HQ-TRI-2007-0355; FRL-8507-4]

Agency Information Collection Activities, Proposed Collections; Toxic Chemical Release Reporting; Request for Comments on Proposed Changes and the Renewal of the Form A Certification Statement (EPA ICR No. 1704.09, OMB Control No. 2070-0143)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to make changes to and renew an existing approved collection. The ICR Supporting Statement, which is abstracted below, describes the nature of the information collection (including proposed minor form changes) and its estimated burden and cost.

DATES: Additional comments may be submitted on or before January 16, 2008.

ADDRESSES: Submit your comments, referencing Docket ID No. EPA-HQ-TRI-2007-0355, to (1) EPA online using http://www.regulations.gov (our preferred method), by e-mail to oei.docket@epa.gov, or by mail to EPA Docket Center, U.S. Environmental Protection Agency, Mail Code 2822T, 1200 Pennsylvania Ave., NW., Washington, DC 20460, and (2) OMB by mail to Office of Information and Regulatory Affairs, Office of Management and Budget (OMB), Attention: Desk Officer for EPA, 725 17th Street, NW., Washington, DC 20503.

FOR FURTHER INFORMATION CONTACT: Cassandra Vail, Toxics Release Inventory Program Division, Office of Information Analysis and Access (2844T), Environmental Protection Agency, 1200 Pennsylvania Ave., NW., Washington, DC 20460; telephone number, 202-566-0753; fax number, 202-566-0740; e-mail address, vail.cassandra@epa.gov.

SUPPLEMENTARY INFORMATION: EPA submitted an earlier version of the ICR Supporting Statement to OMB for review and approval according to the procedures prescribed in 5 CFR 1320.12. On July 11, 2007 (72 FR 37762), EPA sought comments on this ICR pursuant to 5 CFR 1320.8(d). EPA received four comments during the comment period, which are addressed in the Response to Comments document. Any additional comments on the revised ICR Supporting Statement should be submitted to EPA and OMB within 30 days of this notice.

EPA has established a public docket for this ICR Supporting Statement under Docket ID No. EPA-HQ-TRI-2007-0355, which is available for online viewing at http://www.regulations.gov, or in person at the OEI Docket, EPA Docket Center (EPA/DC), U.S. EPA West Building, Room 3334, 1301 Constitution Ave., NW., Washington, DC. The EPA/DC Public Reading Room is open from 8 a.m. to 4:30 p.m., Monday through Friday, excluding legal holidays. The telephone number for the Reading Room is 202-566-1744, and the telephone number for the OEI Docket is 202-566-1752.

Use EPA's electronic docket and comment system at http://www.regulations.gov to submit or view public comments, to access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information for which public disclosure is restricted by statute. For further information about the electronic docket, go to http://www.regulations.gov.

Title: The ICR Renewal and Proposed Changes to the TRI Form A Certification Statement, Information Collection Request Supporting Statement.

ICR numbers: EPA ICR No. 1704.09, OMB Control No. 2070-0143.

ICR Status: The current ICR is scheduled to expire on January 31, 2008. Under OMB regulations, the Agency may continue to conduct or sponsor the collection of information while this submission is pending at OMB. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: The Emergency Planning and Community Right-to-Know Act (EPCRA) section 313 requires owners and operators of certain facilities that manufacture, process, or otherwise use any of certain listed toxic chemicals and chemical categories in excess of applicable threshold quantities to report annually to the U.S. Environmental Protection Agency and to the states in which such facilities are located on their environmental releases and transfers of and other waste management activities for such chemicals. In addition, section 6607 of the Pollution Prevention Act (PPA) requires facilities to provide information on the quantities of the toxic chemicals in waste streams and the efforts made to reduce or eliminate those quantities. Annual reporting under EPCRA section 313 of toxic chemical releases and other waste management information provides citizens with a useful picture of the total disposition of chemicals in their communities and helps focus industry's attention on pollution prevention and source reduction opportunities.

In accordance with the mission to protect the environment and human health, EPA believes that the public has a right to know about the disposition of chemicals within communities and the management of such chemicals by facilities in industries subject to EPCRA section 313 reporting. This reporting has been successful in providing communities with important information regarding the disposition of toxic chemicals and other waste management information of toxic chemicals from manufacturing facilities in their areas. EPA collects, processes, and makes available to the public all of the information collected that is not subject to trade secrecy claims. The information gathered under these authorities is stored in a database maintained at EPA and is available through the Internet.

This information, commonly known as the Toxics Release Inventory (TRI), is used extensively by both EPA and the public sector. Program offices within EPA use TRI data, along with other sources of data, to establish priorities, evaluate potential exposure scenarios, and undertake regulatory and enforcement activities. Environmental and public interest groups use the data in studies and reports, making the public more aware of releases of chemicals in their communities. Comprehensive publicly-available data about releases, transfers, and other waste management activities of toxic chemicals at the community level are generally not available, other than under the reporting requirements of EPCRA section 313. Permit data are often difficult to obtain, are not cross-media, and provide only a limited perspective on a facility's overall performance. With TRI, communities and governments know what toxic chemicals industrial facilities in their area release, transfer, or otherwise manage as waste. In addition, industries have an additional tool for evaluating their production efficiencies and for measuring their progress on their pollution prevention goals.

Responses to the collection of information are mandatory (see 40 CFR part 372). Respondents may claim trade secrecy for a chemical's identity as described in section 322 of EPCRA and its implementing regulations in 40 CFR part 350. EPA will disclose information that is covered by a claim of trade secrecy only to the extent permitted by, and in accordance with, the procedures in 40 CFR part 350 and 40 CFR part 2. An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 20.52 hours for facilities submitting a Form A Certification Statement for Non-PBT chemicals and 35.89 hours for facilities submitting a Form A Certification statement for a single listed PBT chemical under EPCRA section 313. (All estimates incorporate proposed changes in the reporting burden.) Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Facilities with low quantities of listed toxic chemicals in waste may certify on a Form A that they do not exceed an annual reportable amount (ARA) for total waste management (release, recycling, energy recovery, and treatment). Detailed release and waste management information need not be reported. Previously, a facility that met the EPCRA section 313 reporting thresholds, but estimated that their total waste management of a listed non-persistent, bioaccommulative, toxic (non-PBT) chemical did not exceed 500 pounds per year, could use the Form A Certification Statement, rather than the longer Form R, provided that facility met certain other conditions. The use of Form A was not previously allowed for PBT chemicals. Now due to a final TRI rule promulgated (71 FR 76932, December 22, 2006) Form A eligibility has been expanded as follows:

• New Eligibility for Form A: PBT Chemicals—allows a facility reporting on PBT chemicals, except dioxin and dioxin-like compounds, with zero disposal or other releases to use Form A, provided they meet the 1,000,000 pound alternate reporting threshold and have 500 pounds or less of total other waste-management quantities. (Sections 8.2—8.8)

• Expanded Eligibility for Form A: Non-PBT Chemicals—allows a facility reporting on Non-PBT chemicals with total waste management of 5,000 pounds or less and 2,000 pounds or less of disposal or other releases to use Form A, provided they meet the 1,000,000 pound alternate reporting threshold.

Each qualifying facility that chooses to apply this alternate manufacture, process or otherwise-use threshold must file a Form A Certification Statement certifying that they met the condition of the alternate threshold for one or more chemicals, in lieu of completing a Form R for each listed chemical for which the facility exceeded statutory thresholds. The Form A Certification Statement is submitted to both the TRI Data Processing Center and the designated state recipient in the same manner that the Form R is submitted. The Form A Certification Statement provides a signed statement that the sum of the amount of the listed toxic chemical or chemicals in releases or wastes did not exceed the appropriate PBT or Non-PBT release and waste thresholds for the reporting year, and that the chemical(s) was manufactured, processed, or otherwise-used in an amount not exceeding 1,000,000 pounds during this reporting year. A single Form A Certification Statement may contain as many listed toxic chemicals as meet the conditions of the alternate threshold.

Estimated Number of Responses: 10,235.

Estimated Number of Respondents: 10,235.

Frequency of Response: Once per year.

Estimated Total Annual Hour Burden: 515,901.

Estimated Total Annual Cost: $26,007,920 includes $0 annualized capital or O&M costs.

Changes in the Estimates: In this ICR Renewal, the effect of the TRI final rule expanding the eligibility criteria for Form A is expected to reduce the overall burden for TRI reporting overall due to increased Form A eligibility (i.e., number of Form Rs decreased and number of Form As increased, yielding a net burden decrease) with total respondent burden of Form A reporting projected at 515,284 hours. The TRI Program is proposing to add certain data elements to both reporting forms, but the addition of these data elements is estimated to be relatively small, increasing the total reporting burden for Form A reporting to 515,901 hours.

Proposed Changes from the Last Approval: EPA proposes to make the following changes to the TRI Form A Certification Statement:

(1) Enhance Public Contact information (applies to Form R and A.) EPA proposes to add a “Public Contact” field to the Form A Certification Statement so that a facility can provide the name of a person who can respond to questions from the public about the facility's Form A. This field would include the name, telephone number, and e-mail address for the public contact to make it easy to contact the individual identified. To date, some public contact information has been collected on Form R, but not on Form A.

(2) Add boxes for entering revision codes (applies to Form R and Form A.) The TRI Program currently receives many form revisions each year, but does not currently collect information on the reasons for the revisions. The new revision codes will allow both the public and the TRI Program staff to better understand why a facility resubmitted a form. In addition, by analyzing the reasons for revisions, the TRI Program may be better able to address recurring reporting issues or problems that facilities may be facing, ultimately reducing errors and saving time for both the Agency and the reporting facilities. Therefore, facilities will now report up to two codes (listed and defined in the RFIs) indicating the main reason(s) that a form is being revised.

(3) Provide a field for withdrawing a form; and add boxes for entering withdrawal codes (applies to Form R and Form A.) Currently, a facility that wishes to withdraw a previously submitted form must submit its request, including the rationale, as a hard copy memorandum to the TRI Data Processing Center. Adding a “Withdrawal” field and associated code boxes for reasons for withdrawal to Form A will (1) streamline the withdrawal process for facilities, (2) make it easier for EPA to automate the withdrawal process, and (3) improve the Agency's ability to analyze the reasons for withdrawals.

Notes:

1. EPA also proposed other changes (72 FR 37762; July 11, 2007) but has since concluded those changes are not necessary.

2. Baseline adjustments were made to “Number of Responses,” “Number of Respondents” and “Burden Hours” to reflect the most recent conditions of RY2005. In the last ICR, RY2002 was the base year; in the last OMB Action, RY2004 was the base year. Over this period of time, the total number of Form A submissions declined.

3. An additional change was made to the Form A “Number of Responses” and “Number of Respondents” to adjust for previously overstated counts.

Dated: December 11, 2007.
Sara Hisel-McCoy,
Director, Collection Strategies Division.

[FR Doc. E7-24372 Filed 12-14-07; 8:45 am]

BILLING CODE 6560-50-P